DEPARTMENT OF ENERGY

Federal Energy Regulatory Commission

Crystal Lake Wind III, LLC, et al.; Notice of Effectiveness of Exempt Wholesale Generator Status

March 4, 2010.

| Docket Nos.
Crystal Lake Wind III, LLC | EG10-6-000
GardenGarden Wind, LLC | EG10-7-000
Star Point Wind Project LLC | EG10-8-000
Nacogdoches Power, LLC | EG10-9-000
FSE Blythe 1, LLC | EG10-10-000
Ridgewind Power Partners, LLC | EG10-11-000
Stetson Wind II, LLC | EG10-13-000
Buffalo Ridge II LLC | EG10-14-000
Elm Creek Wind II LLC | EG10-15-000
Cottonwood Energy Company LP | EG10-16-000

Take notice that during the months of January and February, 2010, the status of the above-captioned entities as Exempt Wholesale Generators became effective by operation of the Commission's regulations 18 CFR 366.7(a).

Kimberly D. Bose,
Secretary.

[FR Doc. 2010-5205 Filed 3-10-10; 8:45 am]

BILLING CODE 6717-01-P